DEPARTMENT OF COMMERCE

Foreign-Trade Zones Board

[B-17-2023]

Production Activity Not Authorized; Foreign-Trade Zone (FTZ) 124; Valero Refining—New Orleans L.L.C.; (Renewable Fuels and By-Products); Norco, Louisiana

On February 28, 2023, Valero Refining—New Orleans L.L.C. submitted a notification of proposed production activity to the FTZ Board for its facility within Subzone 124A in Norco, Louisiana.

The notification was processed in accordance with the regulations of the FTZ Board (15 CFR part 400), including notice in the Federal Register inviting public comment (88 FR 14598, March 9, 2023). On June 28, 2023, the applicant was notified of the FTZ Board's decision that further review of the activity is warranted. The production activity described in the notification was not authorized. If the applicant wishes to seek authorization for this activity, it will need to submit an application for production authority, pursuant to section 400.23.

Dated: June 28, 2023.
Elizabeth Whiteman,
Executive Secretary.

[FR Doc. 2023-14071 Filed 6-30-23; 8:45 am]

BILLING CODE 3510-DS-P